DEPARTMENT OF HOUSING AND URBAN DEVELOPMENT

[Docket No. FR-5200-FA-06]

Announcement of Funding Awards for Office of Healthy Homes and Lead Hazard Control Grant Programs for Fiscal Year 2008 as Supplemented by Funding Under the American Recovery and Reinvestment Act of 2009

AGENCY: Office of Healthy Homes and Lead Hazard Control, HUD.

ACTION: Announcement of awards funded.

SUMMARY: In accordance with Section 102(a)(4)(C) of the Department of Housing and Urban Development Reform Act of 1989, this announcement notifies the public of funding decisions made by the Department in Fiscal Year 2008 competitions for funding under the Grant Program Notices of Funding Availability (NOFAs) of the Office of Healthy Homes and Lead Hazard Control (OHHLHC). This announcement contains the name and address of the award recipients and the amounts awarded under the Consolidated Appropriations Act, 2008, and prior-year appropriations, or under the American Recovery and Reinvestment Act of 2009.

FOR FURTHER INFORMATION CONTACT: Mr. Matthew Ammon, Department of Housing and Urban Development, Office of Healthy Homes and Lead Hazard Control, Room 8236, 451 Seventh Street, SW., Washington, DC 20410, telephone (202) 402-4337. Hearing- and speech-impaired persons may access the number above via TTY by calling the toll-free Federal Relay Service at (800) 877-8339.

SUPPLEMENTARY INFORMATION: The awards made under the permanent Fiscal Year 2008 appropriation act (Consolidated Appropriations Act, 2008; Pub. L. 110-161) and prior-year appropriations were announced on September 23, 2008 and October 15, 2008. The awards made under the American Recovery and Reinvestment Act of 2009 (Pub. L. 111-5) (Recovery Act) were announced May 15, 2009. The Recovery Act provided funding for applications submitted under the Consolidated Appropriations Act, 2008 competitions that were qualified for award but had not been selected for award due to funding limitations. All of these awards above were the result of competitions announced in a Federal Register notice published on May 15, 2008 (FR-5200-N-01). The purpose of the competitions was to award funding for grants and cooperative agreements for the OHHLHC's Grant Programs. Applications were scored and selected on the basis of selection criteria contained in those Notices.

A total of $148,695,798 was awarded under the Consolidated Appropriations Act, 2008 (Pub. L. 110-161) and previous years' appropriations, and $99,500,000 was awarded under the Recovery Act. In accordance with Section 102(a)(4)(C) of the Department of Housing and Urban Development Reform Act of 1989 (103 Stat. 1987; 42 U.S.C. 3545), the Department is publishing the names, addresses, and the amount of these awards as follows:

1. A total of $70,379,218 was awarded to 25 grantees for the Lead Based Paint Hazard Control Program under the Consolidated Appropriations Act, 2008: City of Phoenix, Arizona, 200 W. Washington Street, 4th Floor, Phoenix, AZ 85003, $663,082; San Diego Housing Commission, 1122 Broadway, Suite 300, San Diego, CA 92101-5612, $3,000,000; County of Alameda, 2000 Embarcadero, Suite 300, Oakland, CA 94606, $3,000,000; Riverside County, Department of Public Health, 4065 County Circle Dr. #304, Riverside, CA 92503, $3,000,000; City of Los Angeles, 1200 W. 7th Street, 9th Floor, Los Angeles, CA 90017, $3,000,000; City of Richmond, 1401 Marina Way South, Richmond, CA 94804, $3,000,000; City of New Haven, 54 Meadow Street, 9th Floor, New Haven, CT 06519, $3,000,000; Naugatuck Valley Health District, 98 Bank Street, Seymour, CT 06483, $3,000,000; City of Cedar Rapids, 1211 6th Street, SW., Cedar Rapids, IA 52404, $2,431,876; Maine State Housing Authority, 353 Water Street, Augusta, ME 04330, $3,000,000; City of Grand Rapids, 300 Monroe Avenue, NW., Grand Rapids, MI 49503, $3,000,000; City of Minneapolis, 250 S. 4th Street, Room 414, Minneapolis, MN 55415, $3,000,000; City of St. Louis, 1015 Locust Street, Suite 1200, St. Louis, MO 63101, $3,000,000; County of St. Louis, 121 South Meramec, Suite 444, Clayton, MO 63105, $2,070,680; City of High Point, 211 S. Hamilton Street, High Point, NC 27260, $3,000,000; City of Albany Community Development Agency, 200 Henry Johnson Boulevard, Albany, NY 12210, $3,000,000; Onondaga County, 1100 Civic Center, Syracuse, NY 13202, $3,000,000; Erie County, 95 Franklin Street, Buffalo, NY 14202, $3,000,000; Erie, County of, 2900 Columbus Avenue, Sandusky, OH 44870, $3,000,000; City of Akron, Health Department, 177 South Broadway, Akron, OH 44308, $3,000,000; Cleveland Department of Public Health, 1925 St. Clair Avenue, Cleveland, OH 44114, $3,000,000; City of Philadelphia, 2100 West Girard Avenue, Building 3, Philadelphia, PA 19130, $3,000,000; City of Providence, 400 Westminster Street, Providence, RI 02903, $3,000,000; Salt Lake County, 2001 South State Street, Suite 2100, Salt Lake City, UT 84190, $2,214,000; City of Milwaukee Health Department, 841 N. Broadway, Room 118, Milwaukee, WI 53202, $2,999,580.

2. A total of $44,087,870 was awarded to 13 grantees for the Lead Hazard Reduction Demonstration Program under the Consolidated Appropriations Act, 2008: City of Los Angeles, 1200 W. 7th Street, 9th Floor, Los Angeles, CA 90017, $4,000,000; San Diego Housing Commission, 1122 Broadway, Suite 300, San Diego, CA 92101-5612, $4,000,000; Malden Redevelopment Authority, 200 Pleasant Street, Malden, MA 02148, $1,455,560; City of Grand Rapids, 300 Monroe Avenue, NW., Grand Rapids, MI 49503, $1,568,855; City of St. Louis, 1015 Locust Street, Suite 1200, St. Louis, MO 63101, $4,000,000; City of Rochester, 30 Church Street, Room 028B, Rochester, NY 14614, $3,999,700; Onondaga County, 1100 Civic Center, Syracuse, NY 13202, $3,615,358; City of Cincinnati, 801 Plum Street, Cincinnati, OH 45202-0000, $3,000,000; City of Cleveland, Department of Public Health, 1925 St. Clair Avenue, Cleveland, OH 44114, $4,000,000; City of Philadelphia, 2100 West Girard Avenue, Bldg. #3, Philadelphia, PA 19130, $4,000,000; City of Providence, Rhode Island, 400 Westminster Street, Providence, RI 02903, $2,450,411; City of Memphis, Div. of Housing and Community Development, 701 N. Main Street, Memphis, TN 38107-2311, $4,000,000; City of Milwaukee Health Department, 841 N. Broadway, Room 118, Milwaukee, WI 53202, $3,997,986.

3. A total of $1,463,725 was awarded to 5 grantees for the Lead Outreach Grants Program under the Consolidated Appropriations Act, 2008: Sonora Environmental Research Institute, Inc., 3202 E. Grant Rd., Tucson, AZ 85716, $264,356; Rebuilding Together, Inc.,1536 16th Street, NW., Washington, DC 20036, $299,927; Southeastern Michigan Health Association, 200 Fisher Building, 3011 West Grand Boulevard, Detroit, MI 48202-3011, $299,463; Community Foundation for Greater Buffalo, Inc., 712 Main Street, Buffalo, NY 14202, $300,000; West Harlem Environmental Action, Inc., 271 West 125th Street, Suite 308 New York, NY 10027, $299,979.

4. A total of $2,200,000 was awarded to 5 grantees for the Lead Technical Studies Program under the Consolidated Appropriations Act, 2008: National Center for Healthy Housing, 10320 Little Patuxent Parkway, Suite 500, Columbia, MD 21044, $526,522; City of Minneapolis, 250 S. 4th Street, Room 414, Minneapolis, MN 55415, $599,834; Saint Louis University, 221 North Grand Boulevard, St. Louis, MO 63103, $356,203; University of Cincinnati, University Hall, Suite 530, 51 Goodman Drive, Cincinnati, OH 45221-0222, $249,878; University of Cincinnati, University Hall, Suite 530, 51 Goodman Drive, Cincinnati, OH 45221-0222, $467,563.

5. A total of $4,374,761 was awarded to 5 grantees for the Healthy Homes Demonstration Grant Program under the Consolidated Appropriations Act, 2008: National Jewish Medical and Research Center, 1400 Jackson Street, Denver, CO 80206, $874,771; Regents of the University of Michigan, 3003 S. State Street, Ann Arbor, MI 48109-1274, $875,000; MI Dept. of Community Health, 201 Townsend Street, P.O. Box 30195, Lansing, MI 48909, $875,000; Case Western Reserve University, 10900 Euclid Avenue, Cleveland, OH 44106, $874,990; City of Columbus, 240 Parsons Avenue, Columbus, OH 43215, $875,000.

6. A total of $2,100,000 was awarded to 4 grantees for the Healthy Homes Technical Studies Grants Program under the Consolidated Appropriations Act, 2008: Alliance for Healthy Homes, 50 F Street, NW., Suite 300, Washington, DC 20001, $350,000; Johns Hopkins University, 733 N. Broadway, Suite 117, Baltimore, MD 21205, $750,000; Saint Louis University, 221 N. Grand Boulevard, St. Louis, MO 63103, $500,000; Clarkson University, 8 Clarkson Avenue, Potsdam, NY 13699-5630, $500,000.

7. A total of $17,253,107 was awarded to 9 grantees for the Lead Elimination Action Program under the Consolidated Appropriations Act, 2008: Bridgeport Neighborhood Trust, Inc., 177 State Street, 5th Floor, Bridgeport, CT 06604, $2,000,000; The ACCESS Agency, Inc., 1315 Main Street, Suite 2, Willimantic, CT 06226, $1,999,161; Coalition to End Childhood Lead Poisoning, Inc., 2714 Hudson Street, Baltimore, MD 21224, $2,000,000; Sustainable Resources Center, Inc., 1081 Tenth Avenue, SE., Minneapolis, MN 55414, $1,541,107; New Community Development Corporation, 1701 North 24th Street, Suite 102, Omaha, NE 68110, $1,916,054; Environmental Education Associates, Inc., 346 Austin Street, Buffalo, NY 14201, $1,999,893; Chautauqua Opportunities, Inc., 17 West Courtney Street, Dunkirk, NY 14048, $1,825,000; Mahoning Valley Real Estate Investors Association, Inc., 2901 Market Street, Youngstown, OH 44507-1616, $2,000,000; Middle Tennessee State University, 1301 East Main Street, Murfreesboro, TN 37132-0001, $1,971,892.

8. A total of $77,949,463 was awarded to 30 grantees for the Lead Based Paint Hazard Control Program under the Recovery Act: City of Phoenix, Arizona, 200 W. Washington Street, 4th Floor, Phoenix, AZ 85003, $2,336,918; City of Long Beach, 2525 Grand Avenue, Long Beach, CA 90815-1765, $2,999,947; City and County of San Francisco, Mayor's Office of Housing, 1 South Van Ness, 5th Floor, San Francisco, CA 94116, $3,000,000; City of Fresno, 2600 Fresno Street Third Floor, Fresno, CA 93721, $3,000,000; City of Pomona, 505 South Garey Avenue, P.O. Box 660, Pomona, CA 91769, $2,999,243; State of California, 700 North 10th Street, Room D215-A, Sacramento, CA 95811-0336, $3,000,000; City of New London, 111 Union Street, New London, CT 06320-6634, $2,004,538; City of Norwich, 23 Union Street, Norwich, CT 06360, $1,699,588; City of Waterbury, 95 Scovill Street, Waterbury, CT 06706, $3,000,000; City of Moline, 619 16th Street, Moline, IL 61265, $2,114,670; City of Gary Department of Community Development, 839 Broadway, Suite 302N, Gary, IN 46402, $3,000,000; Elkhart County, 117 North Second Street, Goshen, IN 46526, $3,000,000; City of Marshalltown, 24 North Center Street, Marshalltown, IA 50158, $2,591,227; City of Sioux City, 405 6th Street, Sioux City, IA 51102, $1,983,747; Polk County, 111 Court Avenue, Suite 300, Des Moines, IA 50309, $3,000,000; City of Lewiston, 27 Pine Street, Lewiston, ME 04240, $2,279,525; City of Lowell, JFK Civic Center, 50 Arcand Drive, Lowell, MA 01852, $3,000,000; Massachusetts Department of Housing & Community Dev., 100 Cambridge Street, Boston, MA 02114, $2,640,000; Malden Redevelopment Authority, 200 Pleasant Street, Malden, MA 02148, $2,984,565; Kansas City Health Department, 2400 Troost Avenue, Suite 3100, Kansas City, MO 64108, $2,998,508; City of Utica, 1 Kennedy Plaza, Utica, NY 13502, $2,038,081; City of Charlotte, 600 East Trade Street, Charlotte, NC 28202, $2,999,903; City of Greenville, 201 West 5th Street, Greenville, NC 27858, $1,922,370; City of Charleston Department of Housing & Community Development, 145 King Street, Charleston, SC 29403, $3,000,000; City of Galveston, P.O. Box 779, Galveston, TX 77553, $3,000,000; City of Roanoke, 215 Church Avenue, SW., Room 162, Roanoke, VA 24011, $1,406,633; City of Spokane, 808 W. Spokane Falls Blvd. Spokane, WA 99201, $2,850,000; State of Washington, 906 Columbia Street, SW., Olympia, WA 98504-2525, $3,000,000; County of Rock, Wisconsin, 51 South Main Street, Janesville, WI 53548, $1,100,000; State of Wisconsin, 201 W. Washington Avenue, Madison, WI 53703, $3,000,000.

9. A total of $2,616,843 was awarded to 1 grantee for the Lead Hazard Reduction Demonstration Program under the Recovery Act: District of Columbia Department of Housing and Community Development, 801 North Capitol Street, NE., Washington, DC 20002, $2,616,843.

10. A total of $17,167,142 was awarded to 20 grantees for the Healthy Homes Demonstration Program under the Recovery Act: City of Phoenix, 200 W. Washington Street, 4th Floor, Phoenix, AZ 85003, $875,000; City of Long Beach, 2525 Grand Avenue, Long Beach, CA 90815-1765, $874,992; Community Housing Corporation, 2337 S. Figueroa Street, Los Angeles, CA 90007, $875,000; Riverside County, Department of Public Health, 4065 County Circle Drive, Suite 304, Riverside, CA 92503, $875,000; Connecticut Children's Medical Center, 282 Washington Street, Hartford, CT 06106, $875,000; Health and Hospital Corporation of Marion County, 3838 North Rural Street, Indianapolis, IN 46205-2930, $874,565; Memorial Hospital of South Bend, Inc., 615 N. Michigan Street, South Bend, IN 46601, $552,388; Self Help Inc., 780 W. Main Street, Avon, MA 02322, $875,000; University of Massachusetts Lowell, 600 Suffolk Street, 2nd Floor South, Lowell, MA 01854, $874,940; Montana State University, Extension Service Housing Program, 309 Montana Hall, Bozeman, MT 59718, $873,963; Mahoning County, 21 West Boardman Street, Youngstown, OH 44503-1427, $875,000; City of Philadelphia, 2100 West Girard Avenue, Building 3, PA 19130, $875,000; Healthy Home Resources, 64 South 14th Street, Pittsburgh, PA 15203, $874,821; Pennsylvania Department of Health, 7th Floor East Wing, Health & Welfare Building, 7th & Forster Streets, Harrisburg, PA 17120, $875,000; Philadelphia Housing Authority, 12 South 23rd Street, Philadelphia, PA 19103, $871,664; County of Harris, 2223 West Loop South, HCPHES, Houston, TX 77027, $871,327; King County Housing Authority, 600 Andover Park West, Tukwila, WA 98188, $875,000; City of Milwaukee Health Department, 841 N. Broadway, Room 118, Milwaukee, WI 53202, $874,085; Kenosha County Department of Human Services, Division of Health, 8600 Sheridan Road, Suite 600, Kenosha, WI 53143, $875,000; Wisconsin Department of Health Services, 1 W. Wilson Street, Room 150, Madison, WI 53701, $874,397.

11. A total of $1,766,552 was awarded to 2 grantees for the Lead Technical Studies Program under the Recovery Act: University of Illinois at Chicago, 809 S. Marshfield, 502 MB, M/C551, Chicago, IL 60612-7205, $973,982; National Center for Healthy Housing, 10320 Little Patuxent Parkway, Suite 500, Columbia, MD 21044, $792,570.

Office of Healthy Homes and Lead Hazard Control.
Dated: September 9, 2009.
Matthew Ammon,
Acting Director, Office of Healthy Homes and Lead Hazard Control.

[FR Doc. E9-22573 Filed 9-17-09; 8:45 am]

BILLING CODE 4210-67-P